FEDERAL COMMUNICATIONS COMMISSION

47 CFR Part 1

[FCC 00-352]

Waivers, Reductions and Deferrals of Regulatory Fees

AGENCY: Federal Communications Commission.

ACTION: Final rule.

SUMMARY: This document amends the Commission's rule regarding petitions for reduction of regulatory fees. The current rule permits a petition for regulatory fee waiver to be submitted with less than full fee payment, which is contrary to the text and intent of the order establishing the regulatory fee waiver rules. The revised rule requires full fee payment to be submitted with any petition for reduction of fee. The revised rule also provides that petitions for reduction that do not include full fee payment will be dismissed unless accompanied by a petition to defer payment due to financial hardship, supported by documentation of the financial hardship.

DATES: Effective January 17, 2001.

FOR FURTHER INFORMATION CONTACT: Carla Conover, Office of General Counsel, (202) 418-7882.

SUPPLEMENTARY INFORMATION: 1. It has come to our attention that our rule on regulatory fee waivers does not conform to the text and intent of our order addressing requests for reductions of fees. On our own motion therefore, we amend and correct our rule on fee waivers. Specifically, in our order adopting rules on regulatory fee waivers, we concluded that the required fee must be submitted with any request for waiver or reduction of regulatory fees. Implementation of Section 9 of the Communications Act. 9 FCC Rcd 5333, 5344 through 5345 (1994) (hereinafter Order). We excepted only the rare petitions requesting waiver or reduction based on financial hardship and which present compelling cases of financial hardship. We specifically rejected comments arguing that we should not generally require that fees be paid when requests for waiver or reduction of regulatory fees are filed. The language of the rule adopted in the Order, however, inadvertently included the phrase “less the amount of the requested reduction,” following “the full fee payment,” and did not include language regarding dismissing petitions not accompanied by full fee payment. (The rule was originally designated as 47 CFR 1.1165(a)(4), but has since been redesignated 47 CFR 1.1166(d).) Our correction to the rule deletes the phrase “less the amount of the requested reduction” and adds the final sentence to conform the language of the rule to the text and intent of paragraphs 33 to 35 of the Order. We therefore revise paragraph (d) of 47 CFR 1.1166 accordingly.

2. In the interests of fairness, we will ensure that no party that relied on the unamended language of 47 CFR 1.1166(d) will be prejudiced. The amended rule will apply only to petitions filed after the effective date of the amended rule.

3. Accordingly, pursuant to sections 4(i) and (j), 9, and 303(r) of the Communications Act of 1934, as amended, 47 U.S.C. 154(i) & (j), 159, & 303(r), part 1 of the Commission's rules, 47 CFR part 1, is amended as set forth and is effective January 17, 2001.

List of Subjects in 47 CFR Part 1

Administrative practice and procedure.

Federal Communications Commission.
Magalie Roman Salas,
Secretary.

Rule Changes

Part 1 of title 47 of the Code of Federal Regulations is amended to read as follows:

PART 1—PRACTICE AND PROCEDURE

1. The authority citation for part 1 continues to read as follows:

Authority: 47 U.S.C. 151, 154(i), 154(j), 155, 225, 303(4), 309.

2. Section 1.1166 is amended by revising paragraph (d) to read as follows:

§ 1.1166 Waivers, reductions and deferrals of regulatory fees.

* * * * *

(d) Petitions for reduction of a fee must be accompanied by the full fee payment and Form 159. Petitions for reduction accompanied by a fee payment must be addressed to the Federal Communications Commission, Attention: Petitions, Post Office Box 358835, Pittsburgh, Pennsylvania, 15251-5835. Petitions for reduction that do not include the required fees or forms will be dismissed unless accompanied by a petition to defer payment due to financial hardship, supported by documentation of the financial hardship.

[FR Doc. 00-31946 Filed 12-15-00; 8:45 am]

BILLING CODE 6712-01-M